DEPARTMENT OF DEFENSE

Department of the Air Force

Air University Board of Visitors Meeting

ACTION: Notice of Meeting of the Air University Board of Visitors.

SUMMARY: Under the provisions of the Federal Advisory Committee Act of 1972 (5 U.S.C., Appendix, as amended), the Government in the Sunshine Act of 1976 (5 U.S.C. 552b, as amended), and 41 CFR 102-3.150, the Department of Defense announces that the Air University Board of Visitors' meeting will take place on Wednesday, 10 July 2013, from 1:00 p.m. to approximately 4:00 p.m. The meeting will be a conference call meeting. Please contact Mrs. Diana Bunch, Designated Federal Officer, at (334) 953-1303, for further information to access the conference call. The purpose and agenda of this meeting is to provide independent advice and recommendations on matters pertaining to the educational policies and programs of Air University and for the AFIT Subcommittee to discuss their recent subcommittee meeting.

In addition, the Air University Board of Visitors' fall meeting will take place on Monday, November 18th, 2013, from 8:00 a.m. to 4:00 p.m. and Tuesday, November 19th, 2013, from 8:00 a.m. to 4:00 p.m. The meeting will be held in the Air University Commander's Conference Room located in building 800 at Maxwell Air Force Base, AL. The purpose of this meeting is to provide independent advice and recommendations on matters pertaining to the educational, doctrinal, and research policies and activities of Air University. The agenda will include topics relating to the policies, programs, and initiatives of Air University educational programs and will include an outbrief from the Academic Affairs Subcommittee and the Air Force Institute of Technology Subcommittee.

Pursuant to 5 U.S.C. 552b, as amended, and 41 CFR 102-3.155 all sessions of the Air University Board of Visitors' meeting will be open to the public. Any member of the public wishing to provide input to the Air University Board of Visitors should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the Air University Board of Visitors until its next meeting. The Designated Federal Officer will review all timely submissions with the Air University Board of Visitors' Board Chairperson and ensure they are provided to members of the Board before the meeting that is the subject of this notice. Additionally, any member of the public wishing to attend this meeting should contact either person listed below at least five calendar days prior to the meeting for information on base entry passes.

FOR FURTHER INFORMATION CONTACT: Mrs. Diana Bunch, Designated Federal Officer, Air University Headquarters, 55 LeMay Plaza South, Maxwell Air Force Base, Alabama 36112-6335, telephone (334) 953-1303.

Tommy W. Lee,
Acting Air Force Federal Register Liaison Officer.

[FR Doc. 2013-14567 Filed 6-18-13; 8:45 am]

BILLING CODE 5001-10-P